DEPARTMENT OF THE INTERIOR

Bureau of Land Management

[LLMT922200-11-L13100000-FI0000-P;MTM 91627]

Notice of Proposed Reinstatement of Terminated Oil and Gas Lease MTM 91627

AGENCY: Bureau of Land Management, Interior.

ACTION: Notice.

SUMMARY: Per 30 U.S.C. 188(d), Antelope Resources Inc. filed a petition for reinstatement of noncompetitive oil and gas lease MTM 91627, Musselshell County, Montana. The lessee paid the required rental accruing from the date of termination.

No leases were issued that affect these lands. The lessee agrees to new lease terms for rentals and royalties of $5 per acre and 16⅔ percent. The lessee paid the $500 administration fee for the reinstatement of the lease and $163 cost for publishing this Notice.

The lessee met the requirements for reinstatement of the lease per Sec. 31 (d) and (e) of the Mineral Leasing Act of 1920 (30 U.S.C. 188). We are proposing to reinstate the lease, effective the date of termination subject to:

• The original terms and conditions of the lease;

• The increased rental of $5 per acre;

• The increased royalty of 16⅔ percent; and

• The $163 cost of publishing this Notice.

FOR FURTHER INFORMATION CONTACT: Teri Bakken, Chief, Fluids Adjudication Section, Bureau of Land Management Montana State Office, 5001 Southgate Drive, Billings, Montana 59101-4669, 406-896-5091.

Teri Bakken,
Chief, Fluids Adjudication Section.

[FR Doc. 2010-30978 Filed 12-8-10; 8:45 am]

BILLING CODE 4310-DN-P